DEPARTMENT OF COMMERCE

National Oceanic and Atmospheric Administration

[Docket Number 120928506-2506-01]

RIN 0648-XC276

Science Advisory Board Satellite Task Force; Availability of Draft Report and Request for Comments

AGENCY: Office of Oceanic and Atmospheric Research (OAR), National Oceanic and Atmospheric Administration (NOAA), Department of Commerce (DOC).

ACTION: Notice of availability and request for public comment.

SUMMARY: NOAA Office of Oceanic and Atmospheric Research (OAR) publishes this notice on behalf of the NOAA Science Advisory Board (SAB) to announce the availability of the draft report of the SAB Satellite Task Force (here called the SATTF) for public comment. The draft report of the SATTF has been prepared at NOAA's request made in September 2011. The NOAA National Environmental Satellite, Data, and Information Service (NESDIS) asked the SAB to review the existing and planned satellite programs and consider proposed alternatives to them. This report provides findings and recommendations from the SATTF on this topic.

DATES: Comments on this draft report must be received by 5 p.m. on November 9, 2012.

ADDRESSES: The Draft Report of the SATTF will be available on the NOAA Science Advisory Board Web site at www.sab.noaa.gov/Reports/sattf.html. The public is encouraged to submit comments electronically to noaa.sab.comments2@noaa.gov. For individuals who do not have access to the Internet, comments may be submitted in writing to: NOAA Science Advisory Board (SAB) c/o Dr. Cynthia Decker, 1315 East-West Highway-R/SAB, Silver Spring, Maryland 20910.

FOR FURTHER INFORMATION CONTACT: Dr. Cynthia Decker, Executive Director, Science Advisory Board, NOAA, 1315 East-West Highway-R/SAB, Silver Spring, Maryland 20910. (Phone: 301-734-1156, Fax: 301-734-1459) during normal business hours of 9 a.m. to 5 p.m. Eastern Time, Monday through Friday, or visit the NOAA SAB Web site at http://www.sab.noaa.gov.

SUPPLEMENTARY INFORMATION: For more information on the charge of the SATTF, please visit the SAB Web site: http://www.sab.noaa.gov/Working_Groups/current/SATTF%20TOR%20NOAA%20FINAL.pdf.

The SAB is chartered under the Federal Advisory Committee Act and is the only Federal Advisory Committee with the responsibility to advise the Under Secretary of NOAA on long- and short-term strategies for research, education, and application of science to resource management and environmental assessment and prediction.

NOAA welcomes all comments on the content of the draft report. We also request comments on any inconsistencies perceived within the report, and possible omissions of important topics or issues. This draft report is being issued for comment only and is not intended for interim use. For any shortcoming noted within the report, please propose specific remedies. Suggested changes will be incorporated where appropriate, and a final report will be posted on the SAB Web site prior to the November 2012 SAB meeting.

Please follow these instructions for preparing and submitting comments. Using the format guidance described below will facilitate the processing of comments and assure that all comments are appropriately considered. Overview comments should be provided first and should be numbered. Comments that are specific to particular pages, paragraphs or lines of the section should follow any overview comments and should identify the page and line numbers to which they apply. Please number each page of your comments.

Dated: October 2, 2012.
Andy Baldus,
Acting Chief Financial Officer/Chief Administrative Officer, Office of Oceanic and Atmospheric Research, National Oceanic and Atmospheric Administration.

[FR Doc. 2012-24864 Filed 10-9-12; 8:45 am]

BILLING CODE 3510-KD-P